NUCLEAR REGULATORY COMMISSION

[Docket No. 72-20; NRC-2017-0136]

U.S. Department of Energy Idaho Operations Office; Three Mile Island Unit 2

AGENCY: Nuclear Regulatory Commission.

ACTION: Environmental assessment and finding of no significant impact; issuance.

SUMMARY: The U.S. Nuclear Regulatory Commission (NRC) is considering the renewal of Special Nuclear Materials (SNM) License SNM-2508 for the Three Mile Island Unit 2 (TMI-2) independent spent fuel storage installation (ISFSI) located on the Idaho National Laboratory (INL) Site, formerly known as the Idaho National Environmental and Engineering Laboratory, in Scoville, Butte County, Idaho. The NRC has prepared an environmental assessment (EA) for this proposed license renewal in accordance with its regulations. Based on the EA, the NRC has concluded that a finding of no significant impact (FONSI) is appropriate, and an environmental impact statement (EIS) is not warranted. The NRC also is conducting a safety evaluation of the proposed license renewal.

DATES: The EA and FONSI referenced in this document are available on September 16, 2019.

ADDRESSES: Please refer to Docket ID NRC-2017-0136 when contacting the NRC about the availability of information regarding this document. You may obtain publicly-available information related to this document using any of the following methods:

• Federal Rulemaking Website: Go to https://www.regulations.gov and search for Docket ID NRC-2017-0136. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Stacey Imboden, Office of Nuclear Material Safety and Safeguards, U.S. Nuclear Regulatory Commission, Washington, DC 20555-0001; telephone: 301-415-2462, email: Stacey.Imboden@nrc.gov.

SUPPLEMENTARY INFORMATION:

I. Introduction

The NRC is considering a license renewal request for SNM-2508 for the TMI-2 specifically-licensed ISFSI located on the INL site in Butte County, Idaho. The applicant, the U.S. Department of Energy, Idaho Operations Office (DOE-ID), is requesting to renew license SNM-2508 for the TMI-2 ISFSI for an additional 20-year period. The current license was set to expire on March 19, 2019 but, in accordance with section 72.42 (c) of title 10 of the Code of Federal Regulations (10 CFR), the license will not expire until a final decision concerning the application for renewal has been made (timely renewal). If approved, DOE-ID would be able to continue to possess and store spent nuclear fuel at the TMI-2 ISFSI in accordance with the requirements in 10 CFR part 72, “Licensing Requirements for the Independent Storage of Spent Nuclear Fuel, High-Level Radioactive Waste, and Reactor-Related Greater than Class C Waste” until March 19, 2039. However, the State of Idaho along with DOE-ID and the U.S. Department of the Navy are parties to a settlement agreement, which in part, requires that all of the TMI-2 spent fuel core debris be removed from the State of Idaho by January 1, 2035. This date falls within the 20-year license renewal period requested by DOE-ID.

The NRC staff has prepared a final EA as part of its review of this license renewal request in accordance with the requirements of 10 CFR part 51. Based on the final EA, the NRC has determined that an EIS is not required for this proposed action and a FONSI is appropriate. The NRC is also conducting a safety evaluation of the proposed license amendment pursuant to 10 CFR part 72, and the results will be documented in a separate Safety Evaluation Report (SER). If DOE-ID's request is approved, the NRC will issue the license renewal following publication of this final EA and FONSI and the SER in the Federal Register.

II. Final Environmental Assessment Summary

DOE-ID is requesting to renew the TMI-2 specifically-licensed ISFSI license for a 20-year period. The NRC has assessed the potential environmental impacts of the proposed action and the no-action alternative. The results of the NRC's environmental review can be found in the final EA (ADAMS Accession No. ML19122A285). In conducting the environmental review, the NRC considered information in the license renewal application (ADAMS Package Accession No. ML19053A310) and supplemental information submitted by DOE-ID (ADAMS Accession Nos. ML17305A060 and ML17345A156); communications with the Idaho State Historic Preservation Office; the Shoshone-Bannock Tribes; the Idaho field office of the U.S Fish and Wildlife Service; and the Idaho Department of Environmental Quality (IDEQ).

If the license renewal request is approved, DOE-ID would be able to continue to possess and store 29 dry shield canisters (DSCs) that contain 341 canisters of TMI-2 spent fuel core debris at the INL site in accordance with the requirements in 10 CFR part 72 and License SNM-2508 for an additional 20 years. DOE-ID states that no additional material will be added to the ISFSI. The estimated annual dose to the nearest potential member of the public from ISFSI activities is 0.0009 milliSieverts (mSv) [(0.09 millirem (mrem)], which is below the 0.25 mSv/yr (25 mrem/yr) limit specified in 10 CFR 72.104(a) and the 1 mSv/yr (100 mrem/yr) limit in 10 CFR 20.1301(a)(1). Furthermore, DOE-ID maintains a radiation protection program for the ISFSI in accordance with 10 CFR part 20 to ensure that radiation doses are as low as is reasonably achievable (ALARA). Accordingly, no significant radiological or non-radiological impacts are expected to result from approval of the license renewal request, and the proposed action would not significantly contribute to cumulative impacts at the ISFSI site. Additionally, there would be no disproportionately high and adverse impacts on minority and low-income populations.

In its license renewal request, DOE-ID is proposing no changes in how it manages and stores spent fuel at the TMI-2 ISFSI. Approval of the proposed action would not result in any new construction or expansion of the existing ISFSI footprint. No liquid effluents are released due to operation of the ISFSI, and all gaseous effluents from the DSCs are vented through a high-efficiency particulate air filter, resulting in doses sufficiently low that a permit for continuous monitoring is not required. No significant radiological or nonradiological impacts are expected from continued normal operations. Occupational dose estimates associated with the proposed action and continued normal operation and maintenance of the ISFSI are expected to be at ALARA levels and within the limits of 10 CFR 20.1201. Therefore, the NRC staff has determined that pursuant to 10 CFR 51.31, preparation of an EIS is not required for the proposed action, and pursuant to 10 CFR 51.32, a FONSI is appropriate.

Furthermore, the NRC staff determined that this license renewal request does not have the potential to cause effects on historic properties, assuming those were present; therefore, in accordance with 36 CFR 800.3(a)(1), no consultation is required under Section 106 of the National Historic Preservation Act. The NRC staff, however, reached out to and informed the Idaho State Historic Preservation Officer (SHPO) (ADAMS Accession No. ML17144A373) and the Shoshone-Bannock Tribes (ADAMS Accession No. ML17146A117) via letters dated July 6, 2017 of its determination. The SHPO responded on July 27, 2017, that the proposed action would not affect any historic properties (ADAMS Accession No. ML17215A574). The NRC staff also consulted with the U.S. Fish and Wildlife Service in accordance with Section 7 of the Endangered Species Act. The draft EA was sent to the IDEQ for review in January 2019. The IDEQ had no specific comments (ADAMS Accession No. ML19050A174).

III. Finding of No Significant Impact

Based on its review of the proposed action in the EA, in accordance with the requirements in 10 CFR part 51, the NRC has concluded that the proposed action, renewal of NRC SNM-2508 for the TMI-2 ISFSI located on the INL site in Scoville, Butte County, Idaho, will not significantly affect the quality of the human environment. Therefore, the NRC has determined, pursuant to 10 CFR 51.31 that preparation of an EIS is not required for the proposed action and a FONSI is appropriate.

Dated at Rockville, Maryland, this 10th day of September, 2019.
For the Nuclear Regulatory Commission.
Kathryn M. Brock,
Acting Director, Division of Fuel Cycle Safety, Safeguards, and Environmental Review, Office of Nuclear Material Safety and Safeguards.

[FR Doc. 2019-19906 Filed 9-13-19; 8:45 am]

BILLING CODE 7590-01-P